DEPARTMENT OF COMMERCE

National Oceanic and Atmospheric Administration

Notice of Designation of the San Francisco Bay National Estuarine Research Reserve, California

AGENCY: Estuarine Reserves Division, Office of Ocean and Coastal Resource Management, National Ocean Service, National Oceanic and Atmospheric Administration, Department of Commerce.

ACTION: Notice of designation.

SUMMARY: Notice is hereby given that the National Oceanic and Atmospheric Administration (NOAA), U.S. Department of Commerce, has designated certain lands and waters of San Francisco Bay in California as the San Francisco Bay National Esturaine Research Reserve.

On August 27, 2003, Vice Admiral Conrad C. Lautenbacher, Under Secretary for Oceans and Atmosphere, signed findings designating the San Francisco Bay National Estuarine Research Reserve in California pursuant to Section 315 of the Coastal Zone Management Act of 1972, as amended, 16 U.S.C. 1461, and its implementing regulations at 15 CFR part 921. The State of California Coastal Zone Management Program has certified that the Reserve designation is consistent to the maximum extent practicable with its program. A copy of the official Record of Decision is available for public review from NOAA's Office of Ocean and Coastal Resource Management at the address below.

FOR FURTHER INFORMATION CONTACT: Nina Garfield at (301) 713-3155, extension 171, Estuarine Reserves Division, Office of Ocean and Coastal Resource Management, National Ocean Service, NOAA, 1305 East West Highway, N/ORM5, Silver Spring, Maryland 20910.

Dated: September 9, 2003.
Jamison S. Hawkins,
Deputy Assistant Administrator, Ocean Services and Coastal Zone Management, National Oceanic and Atmospheric Administration.

[FR Doc. 03-23539 Filed 9-15-03; 8:45 am]

BILLING CODE 3510-08-P